DEPARTMENT OF HOUSING AND URBAN DEVELOPMENT

[Docket No. FR-5858-N-09]

Solicitation of Appointment Nominations to the Housing Counseling Federal Advisory Committee

AGENCY: Office of the Assistant Secretary for Housing—Federal Housing Commissioner, Department of Housing and Urban Development (HUD).

ACTION: Notice of solicitation of appointment nominations for the Housing Counseling Federal Advisory Committee.

SUMMARY: The Department of Housing and Urban Development (HUD) established the Housing Counseling Federal Advisory Committee (HCFAC) on April 14, 2015. This notice invites nominations of individuals to fill vacancies for two-year and three-year terms.

DATES: Please submit nominations as soon as possible, but no later than May 9, 2018.

ADDRESSES: Nominations must be in writing and submitted via email to HCFAC.application@hud.gov. Individuals that do not have internet access may submit nominations to Office of the Deputy Assistant Secretary for Housing Counseling, U.S. Department of Housing and Urban Development, 451 7th Street SW, Room 9224, Washington, DC 20410.

FOR FURTHER INFORMATION CONTACT: Virginia F. Holman, Housing Specialist, U.S. Department of Housing and Urban Development, Office of Housing Counseling, Office of Outreach and Capacity Building, Virginia.F.Holman@hud.gov, telephone number 804-822-4911 (this is not a toll-free number). Persons who have difficulty hearing or speaking may access this number via TTY by calling the toll-free Federal Relay Service at (800) 877-8339 (toll-free number). Individuals with questions may also email HCFAC.application@hud.gov and in the subject line write “HCFAC application question.”

SUPPLEMENTARY INFORMATION:

I. Background and Authority

The Housing Counseling Federal Advisory Committee (HCFAC) is congressionally mandated to provide advice to the Office of Housing Counseling (OHC) (Pub. L. 111-203). The HCFAC provides the OHC valuable advice regarding its mission to provide individuals and families with the knowledge they need to obtain, sustain, and improve their housing through a strong national network of HUD-approved housing counseling agencies and HUD-certified counselors. The HCFAC, however, shall have no role in reviewing or awarding of OHC housing counseling grants and procurement contracts. The HCFAC is subject to the requirements of the Federal Advisory Committee Act (5 U.S.C. Appendix), 41 CFR parts 101-6 and 102-3, and Presidential Memorandum “Final Guidance on Appointments of Lobbyists to Federal Boards and Commissions,” dated June 18, 2010, along with any relevant guidance published in the Federal Register or otherwise issued by the Office of Management and Budget (OMB).¹

¹ See https://obamawhitehouse.archives.gov/the-press-office/presidential-memorandum-lobbyists-agency-boards-and-commissions (“Lobbyists on Agency Boards and Commissions”); see also 76 FR 61756 (“Final Guidance on Appointments of Lobbyists to Federal Boards and Commissions”), and 79 FR 47482 (“Revised Guidance on Appointment of Lobbyists to Federal Advisory Committees, Boards, and Commissions”).

The HCFAC shall consist of not more than 12 individuals appointed by the Secretary. The membership will equally represent the mortgage industry, real estate industry, consumers, and HUD-approved housing counseling agencies. Each member shall be appointed in his or her individual capacity for a term of 3 years and may be reappointed at the discretion of the Secretary. Of the 12 members first appointed to the HCFAC in 2016, 4 were appointed for an initial term of 1 year, 4 were appointed for a term of 2 years, and 4 were appointed for a term of 3 years. The initial 12 appointments were made by the Secretary on June 1, 2016. The one-year appointees' terms expired on May 31, 2017, and the two-year appointees' terms will expire on May 31, 2018.

On June 6, 2017, HUD published a Federal Register notice (FR-5858-N-07) soliciting nominations for one expired position and announcing its intention to reappoint 3 members whose terms expired on May 31, 2017. Subsequently, the Secretary has chosen to solicit nominations for those vacancies along with solicitation of nominations to fill the 4 appointments scheduled to expire on May 31, 2018. This is keeping with the intent of Congress to rotate appointments and stagger member terms. Appointees whose terms have expired are eligible to apply to be nominated for the positions announced herein.

Of the 8 new members, two each must represent one of the following 4 categories: mortgage industry, real estate industry, consumers, and HUD-approved housing counseling agencies. Four members will be selected to serve for the remainder of the 3-year term that commenced June 1, 2017 and is set to expire May 31, 2020, and the remaining 4 members will be selected to serve for a 3-year term commencing June 1, 2018 and expiring May 31, 2021.

II. Nominations for the Housing Counseling Federal Advisory Committee

HUD is seeking nominations for individuals whose experience is representative of at least one of the 4 categories—the mortgage industry, real estate industry, consumers, and HUD-approved housing counseling agencies. Nominations may be made by agency officials, members of Congress, the general public, professional organizations, and self-nominations. Nominees must be U.S. citizens and cannot be employees of the U.S. Government. All nominees will be serving in their “individual capacity” and not in a “representative capacity;” therefore, no Federally-registered lobbyists may serve on the HCFAC.² Individual capacity, as clarified by OMB, refers to individuals who are appointed to committees to exercise their own individual best judgment on behalf of the government, such as when they are designated as Special Government Employees as defined in 18 U.S.C. 202.

² See 79 FR 47482 (“Revised Guidance on Appointment of Lobbyists to Federal Advisory Committees, Boards, and Commissions”) (clarifying that federally registered lobbyists may not serve on advisory committee, board, or Commission in an “individual capacity.”)

Nominations to the HCFAC must be submitted via HUD Form 90005 which is available on the Office of Housing Counseling's Federal Advisory Committee web page at: https://www.hudexchange.info/programs/housing-counseling/federal-advisory-committee/. Each nominee will be required to provide all the information on HUD Form 90005, as well as the following information:

• Name, title, and organization of the nominee and a narrative description of how the applicant is representative of at least one of the following 4 categories: mortgage industry, real estate industry, consumers, and HUD-approved housing counseling agencies.

• Nominee's mailing address, email address, and telephone number;

• A narrative statement summarizing the nominee's qualifications, unique experiences, skills and knowledge the individual will bring to the HCFAC and reasons why the nominee should be appointed to the HCFAC;

• A statement agreeing to submit to any pre-appointment screenings HUD might require of Special Government Employees, as defined in 18 U.S.C. 202;

• A statement confirming that the nominee is not a registered federal lobbyist; and

• The Nominee's signature and date.

Nominations should be submitted via email to HCFAC.application@hud.gov. Individuals that do not have internet access may submit nominations to the Office of the Deputy Assistant Secretary for Housing Counseling, HUD, 451 7th Street SW, Washington, DC 20410. Those who submitted applications previously, and those who have been appointed previously, must reapply if they wish to be considered for a position.

All Nominations must be received no later than May 9, 2018.

HCFAC members will be required to adhere to the conflict of interest rules applicable to Special Government Employees as such employees are defined in 18 U.S.C. 202. The rules include relevant provisions in Title 18 of the U.S. Code related to criminal activity, Standards of Ethical Conduct for Employees of the Executive Branch (5 CFR part 2635) and Executive Order 12674 (as modified by Executive Order 12731). Therefore, applicants will be required to submit to pre-appointment screenings relating to identity of interest and financial interests that HUD might require as shown above. If selected, HCFAC members will also be asked to complete form OGE Form 450 (Confidential Financial Disclosure Report).

Members of the HCFAC shall serve without pay but shall receive travel expenses including per diem in lieu of subsistence as authorized by 5 U.S.C. 5703. Regular attendance is essential to the effective operation of the HCFAC.

Please note this Notice is not intended to be the exclusive method by which HUD will solicit nominations and expressions of interest to identify qualified candidates; however, all candidates for membership on the HCFAC will be subject to the same evaluation criteria.

III. Selection and Meetings

After all nominations have been reviewed, HUD will publish a notice in the Federal Register announcing the appointment of the HCFAC members. Member selections will be made by the Secretary and will be based on the candidates' qualifications to contribute to the accomplishment of the HCFAC's objectives. HCFAC selection will be made based on factors such as expertise and diversity of viewpoints that are necessary to effectively address the matters before the HCFAC. Membership on the HCFAC is personal to the appointee and HCFAC members serve at the discretion of the Secretary.

The estimated number of in-person meetings anticipated within a fiscal year is two (2) in Washington DC or elsewhere in the United States. Additional meetings may be held as needed to render advice to the Deputy Assistant Secretary for the Office of Housing Counseling. The meetings may use electronic communication technologies for attendance.

All meetings will be announced by notice in the Federal Register. Announcements of a meeting may be made, in addition to the Federal Register notice, using other methods.

Dated: March 30, 2018.
Dana T. Wade,
General Deputy Assistant, Secretary for Housing.

[FR Doc. 2018-07219 Filed 4-6-18; 8:45 am]

BILLING CODE 4210-67-P